DEPARTMENT OF COMMERCE

National Oceanic and Atmospheric Administration

50 CFR Part 229

[Docket No. 131017871-3871-01]

RIN 0648-BD72

List of Fisheries for 2014

AGENCY: National Marine Fisheries Service (NMFS), National Oceanic and Atmospheric Administration (NOAA), Commerce.

ACTION: Proposed rule.

SUMMARY: The National Marine Fisheries Service (NMFS) publishes its proposed List of Fisheries (LOF) for 2014, as required by the Marine Mammal Protection Act (MMPA). The proposed LOF for 2014 reflects new information on interactions between commercial fisheries and marine mammals. NMFS must classify each commercial fishery on the LOF into one of three categories under the MMPA based upon the level of mortality and serious injury of marine mammals that occurs incidental to each fishery. The classification of a fishery on the LOF determines whether participants in that fishery are subject to certain provisions of the MMPA, such as registration, observer coverage, and take reduction plan (TRP) requirements. The fishery classifications and list of marine mammal stocks incidentally injured or killed described on the Final LOF for 2013 remain in effect until the effective date of the Final LOF for 2014.

DATES: Comments must be received by January 6, 2014.

ADDRESSES: You may submit comments on the proposed rule, identified by “NOAA-NMFS-2013-0148” by any of the following methods:

(1) Electronic Submissions: Submit all electronic comments through the Federal eRulemaking portal: http://www.regulations.gov (follow instructions for submitting comments).

(2) Mail: Submit written comments to Chief, Marine Mammal and Sea Turtle Conservation Division, Attn: List of Fisheries, Office of Protected Resources, NMFS, 1315 East-West Highway, Silver Spring, MD 20910.

Comments regarding the burden-hour estimates, or any other aspect of the collection of information requirements contained in this proposed rule, should be submitted in writing to Chief, Marine Mammal and Sea Turtle Conservation Division, Office of Protected Resources, NMFS, 1315 East-West Highway, Silver Spring, MD 20910, and email the Office of Information and Regulatory Affairs at ORIA_submissions@omb.eop.gov.

Instructions: All comments received are a part of the public record and will generally be posted to http://www.regulations.gov without change. All Personal Identifying Information (e.g., name, address, etc.) voluntarily submitted by the commenter may be publicly accessible. Do not submit Confidential Business Information or otherwise sensitive or protected information. NMFS will accept anonymous comments (enter “N/A” in the required fields, if you wish to remain anonymous). Attachments to electronic comments will be accepted in Microsoft Word, Excel, WordPerfect, or Adobe PDF file formats only.

FOR FURTHER INFORMATION CONTACT: Lisa White, Office of Protected Resources, 301-427-8494; Allison Rosner, Northeast Region, 978-281-9328; Jessica Powell, Southeast Region, 727-824-5312; Elizabeth Petras, West Coast Region (CA), 562-980-3238; Brent Norberg, West Coast Region (WA/OR), 206-526-6550; Kim Rivera, Alaska Region, 907-586-7424; Nancy Young, Pacific Islands Region, 808-944-2282. Individuals who use a telecommunications device for the hearing impaired may call the Federal Information Relay Service at 1-800-877-8339 between 8 a.m. and 4 p.m. Eastern time, Monday through Friday, excluding Federal holidays.

SUPPLEMENTARY INFORMATION:

What is the List of Fisheries?

Section 118 of the MMPA requires NMFS to place all U.S. commercial fisheries into one of three categories based on the level of incidental mortality and serious injury of marine mammals occurring in each fishery (16 U.S.C. 1387(c)(1)). The classification of a fishery on the LOF determines whether participants in that fishery may be required to comply with certain provisions of the MMPA, such as registration, observer coverage, and take reduction plan requirements. NMFS must reexamine the LOF annually, considering new information in the Marine Mammal Stock Assessment Reports (SARs) and other relevant sources, and publish in the Federal Register any necessary changes to the LOF after notice and opportunity for public comment (16 U.S.C. 1387 (c)(1)(C)).

How does NMFS determine in which category a fishery is placed?

The definitions for the fishery classification criteria can be found in the implementing regulations for section 118 of the MMPA (50 CFR 229.2). The criteria are also summarized here.

Fishery Classification Criteria

The fishery classification criteria consist of a two-tiered, stock-specific approach that first addresses the total impact of all fisheries on each marine mammal stock and then addresses the impact of individual fisheries on each stock. This approach is based on consideration of the rate, in numbers of animals per year, of incidental mortalities and serious injuries of marine mammals due to commercial fishing operations relative to the potential biological removal (PBR) level for each marine mammal stock. The MMPA (16 U.S.C. 1362 (20)) defines the PBR level as the maximum number of animals, not including natural mortalities, that may be removed from a marine mammal stock while allowing that stock to reach or maintain its optimum sustainable population. This definition can also be found in the implementing regulations for section 118 of the MMPA (50 CFR 229.2).

Tier 1: If the total annual mortality and serious injury of a marine mammal stock, across all fisheries, is less than or equal to 10 percent of the PBR level of the stock, all fisheries interacting with the stock will be placed in Category III (unless those fisheries interact with other stock(s) in which total annual mortality and serious injury is greater than 10 percent of PBR). Otherwise, these fisheries are subject to the next tier (Tier 2) of analysis to determine their classification.

Tier 2, Category I: Annual mortality and serious injury of a stock in a given fishery is greater than or equal to 50 percent of the PBR level (i.e., frequent incidental mortalities and serious injuries of marine mammals).

Tier 2, Category II: Annual mortality and serious injury of a stock in a given fishery is greater than 1 percent and less than 50 percent of the PBR level (i.e., occasional incidental mortalities and serious injuries of marine mammals).

Tier 2, Category III: Annual mortality and serious injury of a stock in a given fishery is less than or equal to 1 percent of the PBR level (i.e., a remote likelihood or no known incidental mortalities and serious injuries of marine mammals).

While Tier 1 considers the cumulative fishery mortality and serious injury for a particular stock, Tier 2 considers fishery-specific mortality and serious injury for a particular stock. Additional details regarding how the categories were determined are provided in the preamble to the final rule implementing section 118 of the MMPA (60 FR 45086, August 30, 1995).

Because fisheries are classified on a per-stock basis, a fishery may qualify as one Category for one marine mammal stock and another Category for a different marine mammal stock. A fishery is typically classified on the LOF at its highest level of classification (e.g., a fishery qualifying for Category III for one marine mammal stock and for Category II for another marine mammal stock will be listed under Category II).

Other Criteria That May Be Considered

There are several fisheries on the LOF classified as Category II that have no recent documented mortalities or injuries of marine mammals, or fisheries that did not result in a mortality and serious injury rate greater than 1 percent of a stock's PBR level based on known interactions. NMFS has classified these fisheries by analogy to other Category I or II fisheries that use similar fishing techniques or gear that are known to cause mortality or serious injury of marine mammals, or according to factors discussed in the final LOF for 1996 (60 FR 67063, December 28, 1995) and listed in the regulatory definition of a Category II fishery: “In the absence of reliable information indicating the frequency of incidental mortality and serious injury of marine mammals by a commercial fishery, NMFS will determine whether the incidental mortality or serious injury is “frequent,” “occasional,” or “remote” by evaluating other factors such as fishing techniques, gear used, methods used to deter marine mammals, target species, seasons and areas fished, qualitative data from logbooks or fisher reports, stranding data, and the species and distribution of marine mammals in the area, or at the discretion of the Assistant Administrator for Fisheries” (50 CFR 229.2).

Further, eligible commercial fisheries not specifically identified on the LOF are deemed to be Category II fisheries until the next LOF is published (50 CFR 229.2).

How does NMFS determine which species or stocks are included as incidentally killed or injured in a fishery?

The LOF includes a list of marine mammal species or stocks incidentally killed or injured in each commercial fishery. The list of species or stocks incidentally killed or injured includes “serious” and “non-serious” documented injuries as described later in the List of Species or Stocks Incidentally Killed or Injured in the Pacific Ocean and the Atlantic Ocean, Gulf of Mexico, and Caribbean sections. To determine which species or stocks are included as incidentally killed or injured in a fishery, NMFS annually reviews the information presented in the current SARs. The SARs are based upon the best available scientific information and provide the most current and inclusive information on each stock's PBR level and level of interaction with commercial fishing operations. The best available scientific information used in the SARs reviewed for the 2014 LOF summarize data from 2007-2011. NMFS also reviews other sources of new information, including observer data, stranding data, and fisher self-reports.

In the absence of reliable information on the level of mortality or injury of a marine mammal stock, or insufficient observer data, NMFS will determine whether a species or stock should be added to, or deleted from, the list by considering other factors such as: changes in gear used, increases or decreases in fishing effort, increases or decreases in the level of observer coverage, and/or changes in fishery management that are expected to lead to decreases in interactions with a given marine mammal stock (such as a TRP or a fishery management plan (FMP)). In these instances, NMFS will provide case-specific justification in the LOF for changes to the list of species or stocks incidentally killed or injured.

Where does NMFS obtain information on the level of observer coverage in a fishery on the LOF?

The best available information on the level of observer coverage and the spatial and temporal distribution of observed marine mammal interactions is presented in the SARs. Data obtained from the observer program and observer coverage levels are important tools in estimating the level of marine mammal mortality and serious injury in commercial fishing operations. Starting with the 2005 SARs, each SAR includes an appendix with detailed descriptions of each Category I and II fishery on the LOF, including the observer coverage in those fisheries. The SARs generally do not provide detailed information on observer coverage in Category III fisheries because, under the MMPA, Category III fisheries are not required to accommodate observers aboard vessels due to the remote likelihood of mortality and serious injury of marine mammals. Fishery information presented in the SARs' appendices and other resources referenced during the tier analysis may include: level of observer coverage, target species, levels of fishing effort, spatial and temporal distribution of fishing effort, characteristics of fishing gear and operations, management and regulations, and interactions with marine mammals. Copies of the SARs are available on the NMFS Office of Protected Resources Web site at: http://www.nmfs.noaa.gov/pr/sars/. Information on observer coverage levels in Category I and II fisheries can also be found in the Category I and II fishery fact sheets on the NMFS Office of Protected Resources Web site: http://www.nmfs.noaa.gov/pr/interactions/lof/. Additional information on observer programs in commercial fisheries can be found on the NMFS National Observer Program's Web site: http://www.st.nmfs.gov/st4/nop/.

How do I find out if a specific fishery is in Category I, II, or III?

This proposed rule includes three tables that list all U.S. commercial fisheries by LOF Category. Table 1 lists all of the commercial fisheries in the Pacific Ocean (including Alaska); Table 2 lists all of the commercial fisheries in the Atlantic Ocean, Gulf of Mexico, and Caribbean; and Table 3 lists all U.S.-authorized commercial fisheries on the high seas. A fourth table, Table 4, lists all commercial fisheries managed under applicable TRPs or take reduction teams (TRTs).

Are high seas fisheries included on the LOF?

Beginning with the 2009 LOF, NMFS includes high seas fisheries in Table 3 of the LOF, along with the number of valid High Seas Fishing Compliance Act (HSFCA) permits in each fishery. As of 2004, NMFS issues HSFCA permits only for high seas fisheries analyzed in accordance with the National Environmental Policy Act (NEPA) and the Endangered Species Act (ESA). The authorized high seas fisheries are broad in scope and encompass multiple specific fisheries identified by gear type. For the purposes of the LOF, the high seas fisheries are subdivided based on gear type (e.g., trawl, longline, purse seine, gillnet, troll, etc.) to provide more detail on composition of effort within these fisheries. Many fisheries operate in both U.S. waters and on the high seas, creating some overlap between the fisheries listed in Tables 1 and 2 and those in Table 3. In these cases, the high seas component of the fishery is not considered a separate fishery, but an extension of a fishery operating within U.S. waters (listed in Table 1 or 2). NMFS designates those fisheries in Tables 1, 2, and 3 by a “*” after the fishery's name. The number of HSFCA permits listed in Table 3 for the high seas components of these fisheries operating in U.S. waters does not necessarily represent additional effort that is not accounted for in Tables 1 and 2. Many vessels/participants holding HSFCA permits also fish within U.S. waters and are included in the number of vessels and participants operating within those fisheries in Tables 1 and 2.

HSFCA permits are valid for five years, during which time FMPs can change. Therefore, some vessels/participants may possess valid HSFCA permits without the ability to fish under the permit because it was issued for a gear type that is no longer authorized under the most current FMP. For this reason, the number of HSFCA permits displayed in Table 3 is likely higher than the actual U.S. fishing effort on the high seas. For more information on how NMFS classifies high seas fisheries on the LOF, see the preamble text in the final 2009 LOF (73 FR 73032; December 1, 2008).

Where can I find specific information on fisheries listed on the LOF?

Starting with the 2010 LOF, NMFS developed summary documents, or fishery fact sheets, for each Category I and II fishery on the LOF. These fishery fact sheets provide the full history of each Category I and II fishery, including: when the fishery was added to the LOF, the basis for the fishery's initial classification, classification changes to the fishery, changes to the list of species or stocks incidentally killed or injured in the fishery, fishery gear and methods used, observer coverage levels, fishery management and regulation, and applicable TRPs or TRTs, if any. These fishery fact sheets are updated after each final LOF and can be found under “How Do I Find Out if a Specific Fishery is in Category I, II, or III?” on the NMFS Office of Protected Resources' Web site: http://www.nmfs.noaa.gov/pr/interactions/lof/, linked to the “List of Fisheries by Year” table. NMFS plans to develop similar fishery fact sheets for each Category III fishery on the LOF. However, due to the large number of Category III fisheries on the LOF and the lack of accessible and detailed information on many of these fisheries, the development of these fishery fact sheets will take significant time to complete. NMFS anticipates posting Category III fishery fact sheets along with the final 2015 LOF, although this timeline may be revised as this effort progresses.

Am I required to register under the MMPA?

Owners of vessels or gear engaging in a Category I or II fishery are required under the MMPA (16 U.S.C. 1387(c)(2)), as described in 50 CFR 229.4, to register with NMFS and obtain a marine mammal authorization to lawfully take non-endangered and non-threatened marine mammals incidental to commercial fishing operations. Owners of vessels or gear engaged in a Category III fishery are not required to register with NMFS or obtain a marine mammal authorization.

How do I register and receive my authorization certificate and mortality/injury reporting forms?

NMFS has integrated the MMPA registration process, implemented through the Marine Mammal Authorization Program (MMAP), with existing state and Federal fishery license, registration, or permit systems for Category I and II fisheries on the LOF. Participants in these fisheries are automatically registered under the MMAP and are not required to submit registration or renewal materials directly under the MMAP. In the Pacific Islands, West Coast, and Alaska regions, NMFS will issue vessel or gear owners an authorization certificate and/or mortality/injury reporting forms via U.S. mail or with their state or Federal license at the time of renewal. In the Northeast region, NMFS will issue vessel or gear owners an authorization certificate via U.S. mail automatically at the beginning of each calendar year; but vessel or gear owners must request or print mortality/injury reporting forms by contacting the NMFS Northeast Regional Office at 978-281-9328 or by visiting the Northeast Regional Office Web site (http://www.nero.noaa.gov/mmap). In the Southeast region, NMFS will issue vessel or gear owners notification of registry and vessel or gear owners may receive their authorization certificate and/or mortality/injury reporting form by contacting the Southeast Regional Office at 727-209-5952 or by visiting the Southeast Regional Office Web site (http://sero.nmfs.noaa.gov/pr/mm/mmap.htm) and following the instructions for printing the necessary documents. Mortality/injury forms are also available at http://www.nmfs.noaa.gov/pr/pdfs/interactions/mmap_reporting_form.pdf.

The authorization certificate, or a copy, must be on board the vessel while it is operating in a Category I or II fishery, or for non-vessel fisheries, in the possession of the person in charge of the fishing operation (50 CFR 229.4(e)). Although efforts are made to limit the issuance of authorization certificates to only those vessel or gear owners that participate in Category I or II fisheries, not all state and Federal permit systems distinguish between fisheries as classified by the LOF. Therefore, some vessel or gear owners in Category III fisheries may receive authorization certificates even though they are not required for Category III fisheries. Individuals fishing in Category I and II fisheries for which no state or Federal permit is required must register with NMFS by contacting their appropriate Regional Office (see ADDRESSES).

How do I renew my registration under the MMAP?

In Alaska and Northeast regional fisheries, registrations of vessel or gear owners are automatically renewed and participants should receive an authorization certificate by January 1 of each new year. In Pacific Islands regional fisheries, vessel or gear owners receive an authorization certificate by January 1 for state fisheries and with their permit renewal for federal fisheries. In West Coast regional fisheries, vessel or gear owners receive authorization with each renewed state fishing license, the timing of which varies based on target species. Vessel or gear owners who participate in these regions and have not received authorization certificates by January 1 or with renewed fishing licenses must contact the appropriate NMFS Regional Office (see ADDRESSES).

In Southeast regional fisheries, vessel or gear owners' registrations are automatically renewed and participants will receive a letter in the mail by January 1 instructing them to contact the Southeast Regional Office to have an authorization certificate mailed to them or to visit the Southeast Regional Office Web site (http://sero.nmfs.noaa.gov/pr/mm/mmap.htm) to print their own certificate.

Am I required to submit reports when I kill or injure a marine mammal during the course of commercial fishing operations?

In accordance with the MMPA (16 U.S.C. 1387(e)) and 50 CFR 229.6, any vessel owner or operator, or gear owner or operator (in the case of non-vessel fisheries), participating in a fishery listed on the LOF must report to NMFS all incidental mortalities and injuries of marine mammals that occur during commercial fishing operations, regardless of the category in which the fishery is placed (I, II, or III) within 48 hours of the end of the fishing trip. “Injury” is defined in 50 CFR 229.2 as a wound or other physical harm. In addition, any animal that ingests fishing gear or any animal that is released with fishing gear entangling, trailing, or perforating any part of the body is considered injured, regardless of the presence of any wound or other evidence of injury, and must be reported. Mortality/injury reporting forms and instructions for submitting forms to NMFS can be downloaded from: http://www.nmfs.noaa.gov/pr/pdfs/interactions/mmap_reporting_form.pdf or by contacting the appropriate Regional office (see ADDRESSES). Forms may be faxed directly to the NMFS Office of Protected Resources at 301-713-4060 or 301-713-0376. Reporting requirements and procedures can be found in 50 CFR 229.6.

Am I required to take an observer aboard my vessel?

Individuals participating in a Category I or II fishery are required to accommodate an observer aboard their vessel(s) upon request from NMFS. MMPA section 118 states that an observer may not be required on a vessel if the facilities for quartering an observer or performing observer functions are inadequate or unsafe; thereby, exempting vessels too small to accommodate an observer from this requirement. However, observer requirements will not be exempted, regardless of vessel size, for U.S. Atlantic Ocean, Caribbean, Gulf of Mexico large pelagics longline vessels operating in special areas designated by the Pelagic Longline Take Reduction Plan implementing regulations (50 CFR 229.36(d)). Observer requirements can be found in 50 CFR 229.7.

Am I required to comply with any marine mammal take reduction plan regulations?

Table 4 in this proposed rule provides a list of fisheries affected by TRPs and TRTs. TRP regulations can be found at 50 CFR 229.30 through 229.37. A description of each TRT and copies of each TRP can be found at: http://www.nmfs.noaa.gov/pr/interactions/trt/. It is the responsibility of fishery participants to comply with applicable take reduction regulations.

Where can I find more information about the LOF and the MMAP?

Information regarding the LOF and the Marine Mammal Authorization Program, including registration procedures and forms, current and past LOFs, information on each Category I and II fishery, observer requirements, and marine mammal mortality/injury reporting forms and submittal procedures, may be obtained at: http://www.nmfs.noaa.gov/pr/interactions/lof/, or from any NMFS Regional Office at the addresses listed below:

NMFS, Northeast Region, 55 Great Republic Drive, Gloucester, MA 01930-2298, Attn: Allison Rosner;

NMFS, Southeast Region, 263 13th Avenue South, St. Petersburg, FL 33701, Attn: Jessica Powell;

NMFS, West Coast Region, California, 501 W. Ocean Blvd., Suite 4200, Long Beach, CA 90802-4213, Attn: Elizabeth Petras;

NMFS, West Coast Region, Washington and Oregon, 7600 Sand Point Way NE., Seattle, WA 98115, Attn: Brent Norberg, Protected Resources Division;

NMFS, Alaska Region, Protected Resources, P.O. Box 22668, 709 West 9th Street, Juneau, AK 99802, Attn: Kim Rivera; or

NMFS, Pacific Islands Region, Protected Resources, 1601 Kapiolani Boulevard, Suite 1110, Honolulu, HI 96814, Attn: Nancy Young.

Sources of Information Reviewed for the Proposed 2014 LOF

NMFS reviewed the marine mammal incidental mortality and serious injury information presented in the SARs for all fisheries to determine whether changes in fishery classification are warranted. The SARs are based on the best scientific information available at the time of preparation, including the level of mortality and serious injury of marine mammals that occurs incidental to commercial fishery operations and the PBR levels of marine mammal stocks. The information contained in the SARs is reviewed by regional Scientific Review Groups (SRGs) representing Alaska, the Pacific (including Hawaii), and the U.S. Atlantic, Gulf of Mexico, and Caribbean. The SRGs were created by the MMPA to review the science that informs the SARs, and to advise NMFS on marine mammal population status, trends, and stock structure, uncertainties in the science, research needs, and other issues.

NMFS also reviewed other sources of new information, including marine mammal stranding data, observer program data, fisher self-reports through the Marine Mammal Authorization Program, reports to the SRGs, conference papers, FMPs, and ESA documents.

The proposed LOF for 2014 was based on, among other things, information provided in the NEPA and ESA documents analyzing authorized high seas fisheries; stranding data; fishermen self-reports through the MMAP; and SARs, primarily the draft 2013 SARs, which are generally based on data from 2007-2011. The final SARs referenced in this LOF include: 2007 (73 FR 21111, April 18, 2008), 2008 (74 FR 19530, April 29, 2009), 2009 (75 FR 12498, March 16, 2010), 2010 (76 FR 34054, June 10, 2011), 2011 (77 FR 29969, May 21, 2012); and 2012 (78 FR 19446, April, 1 2013) and the draft SAR for 2013 (78 FR 66681, November 6, 2013). The SARs are available at: http://www.nmfs.noaa.gov/pr/sars/.

Summary of Changes to the LOF for 2014

The following summarizes proposed changes to the LOF for 2014 in the estimated number of vessels/persons in a particular fishery and the species or stocks that are incidentally killed or injured in a particular fishery. The proposed LOF for 2014 has no changes to fishery classifications or to fisheries that are subject to a take reduction plan. The classifications and definitions of U.S. commercial fisheries for 2014 are identical to those provided in the LOF for 2013 with the proposed changes discussed below. State and regional abbreviations used in the following paragraphs include: AK (Alaska), CA (California), DE (Delaware), FL (Florida), GMX (Gulf of Mexico), HI (Hawaii), MA (Massachusetts), ME (Maine), NC (North Carolina), NY (New York), OR (Oregon), RI (Rhode Island), SC (South Carolina), VA (Virginia), WA (Washington), and WNA (Western North Atlantic).

Commercial Fisheries in the Pacific Ocean

Number of Vessels/Persons

NMFS proposes to update the estimated number of vessels/persons in the commercial fisheries in the Pacific Ocean (Table 1). Updates are based on state and federal fisheries permit data. The estimated number of vessels/persons participating in fisheries operating within U.S. waters is expressed in terms of the number of active participants in the fishery, when possible. If this information is not available, the estimated number of vessels or persons licensed for a particular fishery is provided. If no recent information is available on the number of participants, vessels, or persons licensed in a fishery, then the number from the most recent LOF is used for the estimated number of vessels/persons in the fishery. NMFS acknowledges that, in some cases, these estimations may be inflations of actual effort. However, in these cases, the numbers represent the potential effort for each fishery, given the multiple gear types for which several state permits may allow.

NMFS proposes to update the estimated number of vessels/persons in the “CA thresher shark/swordfish drift gillnet (≥14 in mesh)” fishery from 25 to 19.

NMFS proposes to update the estimated number of vessels/persons in the “CA spot prawn pot” fishery from 27 to 28.

NMFS proposes to update the estimated number of vessels/persons in the “CA Dungeness crab pot” fishery from 534 to 570.

NMFS proposes to update the estimated number of vessels/persons in the “CA pelagic longline” fishery from 6 to 1.

NMFS proposes to update the estimated number of vessels/persons in the “CA coonstripe shrimp, rock crab, tanner crab pot/trap” fishery from 305 to 203.

NMFS proposes to update the estimated number vessels/persons in the “CA spiny lobster trap” fishery from 225 to 198.

List of Species or Stocks Incidentally Killed or Injured in the Pacific Ocean

NMFS proposes to update the list of species or stocks incidentally killed or injured by fisheries in the Pacific Ocean (Table 1). The agency notes here that while only mortalities and “serious injuries” are used to categorize fisheries as Category I, II, or III, the list of species or stocks incidentally killed or injured includes stocks that have any documented mortalities and injuries, including “non-serious” injuries. For information on how NMFS determines whether a particular injury is serious or non-serious, please see NMFS Instruction 02-038-01, “Process for Distinguishing Serious from Non-Serious Injury of Marine Mammals” (http://www.nmfs.noaa.gov/pr/laws/mmpa/policies.htm). NMFS proposes the following updates:

NMFS proposes to add minke whale (CA/OR/WA stock) to the list of species/stocks incidentally killed or injured in the “CA thresher shark and swordfish drift gillnet” fishery. A minke whale interaction was observed in this fishery in 2011 (Carretta and Enriquez, 2012).

NMFS proposes to add grey whale (Eastern North Pacific) to the list of species/stocks incidentally killed or injured in the “Bering Sea, Aleutian Islands crab pot” fishery. One grey whale was observed entangled in Bering Sea red king crab pot gear in 2008 (AKR Standing Database #2007117). NMFS Alaska Fisheries Science Center staff determined that the animal was seriously injured based on the poor body condition and the gear remaining on the animal based on the recent criteria for assessing serious injury in marine mammals (NMFS 2012).

NMFS proposes to change the false killer whale stock name from “HI Insular” to “MHI Insular” in the “HI deep-set (tuna target) longline” fishery, to reflect the revised stock name (Carretta et al., 2013a). NMFS also proposes to remove the superscript “1” to indicate the stock is no longer driving the fishery's Category I classification, as described below. The fishery remains a Category I fishery because of mortality and serious injuries (M/SI) of the HI pelagic stock of false killer whales. The fishery has approximately 20% observer coverage.

NMFS finds that the MHI insular stock does not drive the Category I classification because of the following Tier 1 and Tier 2 analyses. The total average annual mortalities and serious injuries of the MHI Insular stock of false killer whale across all fisheries within the U.S. exclusive economic zone (EEZ) around Hawaii from 2007-2011 is 0.1 (Carretta et al., 2013b). That M/SI rate is 33.33% of PBR, which exceeds 10% of PBR (Tier 1) (PBR = 0.3 (Carretta et al., 2013b)). The M/SI rate (0.1) is the same when evaluating the deep-set longline fishery alone. The percent of PBR (33.33%) is between 1% and 50% of PBR (Tier 2), which would classify the fishery as Category II. Therefore, the stock no longer drives the fishery's Category I classification and NMFS proposes to remove the superscript “¹”.

For the HI pelagic stock of false killer whales, the total average annual M/SI across all fisheries within the U.S. EEZ around Hawaii from 2007-2011 is 12.6 (Carretta et al., 2013b). PBR for this stock from most recent SAR is 9.1 (Carretta et al., 2013b). The M/SI rate is 138.46% of PBR, which exceeds 10% of PBR (Tier 1). The average annual M/SI within the U.S. EEZ around Hawaii, for the deep-set longline fishery, is 12.4 (Carretta et al., 2013b). The percent of PBR for the deep-set fishery alone is 136.26%, which is greater than 50% of PBR (Tier 2) (Category I). The HI pelagic stock continues to drive the fishery's Category I classification.

NMFS proposes to add sperm whale (HI stock) to the list of species or stocks incidentally injured or killed in the “HI deep-set (tuna target) longline” fishery. In 2011, one sperm whale interaction was observed in the fishery within the U.S. EEZ around Hawaii (Bradford and Forney, 2013). This sperm whale was prorated as 75% probability of serious injury (Bradford and Forney, 2013), based on an evaluation of the observer's description of the interaction and following the most recently developed criteria for assessing serious injury in marine mammals (NMFS 2012). The 5-year average (2007-2011) estimate of 0.7 sperm whale M/SI per year is 6.86% of the stock's PBR of 10.2 (Carretta et al., 2013b). The fishery has approximately 20% observer coverage.

NMFS proposes to add Blainville's beaked whale (HI stock) to the list of species or stocks incidentally injured or killed in the “HI shallow-set (swordfish target) longline” fishery. One non-serious injury was observed on the high seas in 2011 (Bradford and Forney, 2013). There is no PBR calculated for Blainville's beaked whales on the high seas. This fishery has 100% observer coverage. Although the species was only observed taken by the fishery on the high seas, we are proposing to include it on the list of species/stocks incidentally injured or killed in the U.S. waters portion of the fishery (i.e., on Table 1) because the fishery, and, thus, its risk to marine mammals, is considered the same on either side of the EEZ boundary and beaked whales occur throughout the U.S. EEZ.

NMFS proposes to add Cuvier's beaked whale (unknown stock) to the list of species or stocks incidentally killed or injured in the “American Samoa longline” fishery. In 2011, one Cuvier's beaked whale was observed to be incidentally killed in the fishery within the U.S. EEZ around American Samoa. Total M/SI of marine mammals in the American Samoa longline fishery for 2007-2011 have not yet been estimated. Observer coverage in the fishery in 2011 was 33%, though coverage has ranged from 6.4% to 33% from 2007-2011. There is currently no stock assessment report for Cuvier's beaked whales in American Samoa, so the stock identity is considered unknown.

NMFS proposes to add short-finned pilot whale (unknown stock) and bottlenose dolphin (unknown stock) to the list of species or stocks incidentally killed or injured in the “American Samoa longline” fishery. An MMAP report was submitted in 2009 that described a hooked bottlenose dolphin that was not associated with an observed take (Bradford and Forney 2013). Another MMAP report was submitted in 2010 that described two hooked short-finned pilot whales, which were not associated with observed takes (Bradford and Forney 2013). MMAP reports are not used for bycatch estimation because they are not obtained using a quantifiable sampling scheme, but they could potentially provide minimum counts of mortality and serious injuries for species not observed interacting with the fishery. Insufficient detail was provided to allow verification of species identifications, but short-finned pilot whales and common bottlenose dolphins are not accounted for by observed interactions in this fishery. Total M/SI of marine mammals in the American Samoa longline fishery for 2007-2011 have not yet been estimated. Observer coverage in the fishery in 2011 was 33%, though coverage has ranged from 6.4% to 33% from 2007-2011. There are currently no stock assessment reports for short-finned pilot whales or common bottlenose dolphins in American Samoa, so the stock identities are considered unknown.

Commercial Fisheries in the Atlantic Ocean, Gulf of Mexico, and Caribbean

List of Species or Stocks Incidentally Killed or Injured

NMFS proposes the following additions and deletions from the list of marine mammal species and stocks incidentally killed or injured in commercial fisheries in the Atlantic, Gulf of Mexico, and Caribbean (Table 2). These additions and deletions are based on information contained in the U.S. Atlantic and Gulf of Mexico Marine Mammal Stock Assessments, strandings data, and/or observer data. The agency notes here that while only mortalities and “serious injuries” are used to categorize fisheries as Category I, II, or III, the list of species or stocks incidentally killed or injured includes stocks that have any documented mortalities and injuries, including “non-serious” injuries. For information on how NMFS determines whether a particular injury is serious or non-serious, please see NMFS Instruction 02-038-01, “Process for Distinguishing Serious from Non-Serious Injury of Marine Mammals” (http://www.nmfs.noaa.gov/pr/laws/mmpa/policies.htm). NMFS proposes the following updates:

NMFS proposes to add several stocks to the list of species and stocks incidentally killed or injured in the “Atlantic Ocean, Gulf of Mexico, Caribbean passenger vessel” fishery. NMFS proposes to add the following bottlenose dolphin stocks based on stranding data from 2007-2011: (1) Northern migratory coastal stock, (2) Southern migratory coastal stock, (3) Southern South Carolina/Georgia coastal stock, (4) Northern Florida coastal stock, (5) Central Florida coastal stock, (6) Northern North Carolina estuarine stock, (7) Northern Georgia/Southern South Carolina estuarine stock, (8) Jacksonville estuarine system stock. The number of documented possible interactions ranges from 1 to 4 for a given stock, but cannot be confirmed because the gear from a recreational fishery cannot be discerned from a passenger vessel fishery.

NMFS proposes to add bottlenose dolphin (Western North Atlantic offshore stock) to the list of species and stocks incidentally killed or injured in the “Gulf of Maine, U.S. Mid-Atlantic tuna, shark, swordfish hook-and-line/harpoon” fishery. The addition is based on an MMAP report.

NMFS proposes to remove bottlenose dolphin (Western North Atlantic offshore stock) from the list of species and stocks incidentally killed or injured in the “Mid-Atlantic mid-water trawl” fishery. There have been no observed takes of bottlenose dolphins from this fishery in over five years. Observer coverage of this fishery was 25% in 2010.

Commercial Fisheries on the High Seas

Removal of Fisheries From the LOF

NMFS proposes to remove: (1) Category II Western Pacific pelagic “pot vessel,” “factory mothership,” and “multipurpose vessels not elsewhere identified (NEI);” (2) Category II Pacific highly migratory species “pot vessel” and “multipurpose vessels (NEI);” (3) Category II South Pacific albacore troll “pot vessel” and “multipurpose vessels (NEI);” and (4) Category II Atlantic highly migratory species “multipurpose vessels (NEI)” fisheries from the LOF. These fisheries categories are no longer valid under the HSFCA permits database.

NMFS corrects a typographical mistake and removes the Category III “Atlantic highly migratory species purse seine” fisheries from the LOF. The HSFCA permit expired in 2011, but the fishery was never removed from Table 3.

Number of Vessels/Persons

NMFS proposes to update the estimated number of HSFCA permits in multiple high seas fisheries for multiple gear types (Table 3). The proposed updated numbers of HSFCA permits reflect the current number of permits in the NMFS National Permit System database.

Category | High seas fishery | Number of HSFCA permits (Final 2013 LOF) | Number of HSFCA permits (Proposed 2014 LOF)
I | Atlantic highly migratory species longline | 79 | 84
II | Atlantic highly migratory species drift gillnet | 2 | 1
II | Atlantic highly migratory species trawl | 5 | 1
II | South Pacific tuna fisheries purse seine | 38 | 40
II | South Pacific albacore troll longline | 11 | 13
II | South Pacific tuna fisheries longline | 10 | 8
II | Pacific highly migratory species handline/pole and line | 40 | 46
II | South Pacific albacore troll handline/pole and line | 7 | 9
II | Western Pacific pelagic handline/pole and line | 6 | 5
II | Atlantic highly migratory species troll | 5 | 4
II | South Pacific albacore troll | 36 | 33
II | South Pacific tuna fisheries troll | 3 | 2
II | Western Pacific pelagic troll | 22 | 19
II | Pacific highly migratory species liners nei | 1 | 3
III | Pacific highly migratory species longline | 96 | 101
III | Pacific highly migratory species purse seine | 6 | 8
III | Pacific highly migratory species troll | 263 | 262

List of Species or Stocks Incidentally Killed or Injured in High Seas Fisheries

NMFS proposes to update the list of species or stocks incidentally killed or injured by fisheries in High Seas Fisheries (Table 3). The agency notes here that while only mortalities and “serious injuries” are used to categorize fisheries as Category I, II, or III, the list of species or stocks incidentally killed or injured includes stocks that have any documented mortalities and injuries, including “non-serious” injuries. For information on how NMFS determines whether a particular injury is serious or non-serious, please see NMFS Instruction 02-038-01, “Process for Distinguishing Serious from Non-Serious Injury of Marine Mammals” (http://www.nmfs.noaa.gov/pr/laws/mmpa/policies.htm). The lists of species or stocks injured or killed in fisheries that operate both within U.S. waters and on the high seas are identical to their Table 1 or 2 counterparts, except for those with distributions known to occur on only one side of the EEZ boundary. Stock structure on the high seas is unclear or unknown for most species, which leads to uncertainty in stock identification for animals injured or killed on the high seas. Therefore, for Table 3, we report the stock names as identified in the SARs. NMFS proposes the following updates:

NMFS proposes to remove all “unknown” stocks from the Category I “Western Pacific Pelagic (HI Deep-set component)” fishery for consistency in how marine mammal stocks are identified on Table 3. In previous LOFs, NMFS included “unknown” stocks of species that had been observed taken in the fishery on the high seas to acknowledge that the fishery may be interacting with unknown, unidentified stocks beyond the range of the HI pelagic stocks. NMFS believes that this information is unnecessary and may create confusion about what interactions have been documented. Therefore, rather than including “unknown” stocks for this fishery, we have added language to the introductory paragraph of this section to acknowledge the uncertainty in stock identification. Accordingly, NMFS proposes to remove the following unknown stocks from the “Western Pacific Pelagic (HI Deep-set component)” fishery: bottlenose dolphin, false killer whale, Pantropical spotted dolphin, Risso's dolphin, short-finned pilot whale, and striped dolphin. NMFS is retaining the HI and HI pelagic stocks of these species to acknowledge and account for mortality and injury of these transboundary stocks on the high seas (Carretta et al., 2013b).

NMFS proposes to remove the following “unknown” stocks from the Category II “Western Pacific Pelagic (HI Shallow-set component)” fishery for the same reason as the HI deep-set component: bottlenose dolphin, Kogia sp. whale (pygmy or dwarf sperm whale), Risso's dolphin, short-finned pilot whale, and striped dolphin. NMFS is retaining the HI and HI pelagic stocks of these species to acknowledge and account for mortality and injury of these transboundary stocks on the high seas (Carretta et al., 2013b).

NMFS proposes to add sperm whale (HI stock) to the list of species and stocks incidentally killed or injured in the Category I “Western Pacific Pelagic (HI Deep-set component)” fishery, to be consistent with the Table 1 recommendation above.

NMFS proposes to add false killer whale (HI Pelagic stock) to the list of species and stocks incidentally killed or injured in the Category II “Western Pacific Pelagic (HI Shallow-set component)” fishery. Although false killer whales have been included in the list of species killed or injured in the U.S. EEZ component of the fishery in Table 1 since the 2011 LOF (75 FR 68468, November 8, 2010), they were inadvertently left off of the list for the high seas component of the fishery. We are now proposing to add the species to the list in Table 3 to be consistent with Table 1. Additionally, although false killer whales have not been observed to be taken in the fishery on the high seas from 2007-2011, two blackfish (i.e., either false killer whale or short-finned pilot whale) were observed seriously injured in the fishery on the high seas during that time. Blackfish interactions are prorated to each stock based on distance from shore (see McCracken 2010 for details), resulting in a 5-year average estimate of 0.3 false killer whale M/SI per year in the fishery on the high seas (Carretta et al., 2013b). The fishery has 100% observer coverage.

NMFS proposes to add short-beaked common dolphin (CA/OR/WA) to the list of species and stocks incidentally killed or injured in the Category II “Western Pacific Pelagic (HI Shallow-set component)” fishery. One serious injury was observed on the high seas in 2011 (Bradford and Forney, 2013). There is no PBR calculated for short-beaked common dolphins on the high seas. There is no stock defined within the U.S. EEZ around the Hawaiian Islands, so the stock identity is considered CA/OR/WA. This fishery has 100% observer coverage.

NMFS proposes to add Blainville's beaked whale (HI stock) and to the list of species and stocks incidentally killed or injured in the Category II “Western Pacific Pelagic (HI Shallow-set component)” fishery, to be consistent with the Table 1 recommendation above.

NMFS corrects a typographical error and removes pygmy sperm whale (WNA stock) from the list of species and stocks incidentally killed or injured in the “Atlantic Highly Migratory Species” to reflect the list change made to the “Atlantic Ocean, Caribbean, Gulf of Mexico large pelagics longline” fishery on the LOF for 2010 (74 FR 27739, June 11, 2009).

List of Fisheries

The following tables set forth the proposed list of U.S. commercial fisheries according to their classification under section 118 of the MMPA. Table 1 lists commercial fisheries in the Pacific Ocean (including Alaska); Table 2 lists commercial fisheries in the Atlantic Ocean, Gulf of Mexico, and Caribbean; Table 3 lists commercial fisheries on the high seas; and Table 4 lists fisheries affected by TRPs or TRTs.

In Tables 1 and 2, the estimated number of vessels/persons participating in fisheries operating within U.S. waters is expressed in terms of the number of active participants in the fishery, when possible. If this information is not available, the estimated number of vessels or persons licensed for a particular fishery is provided. If no recent information is available on the number of participants, vessels, or persons licensed in a fishery, then the number from the most recent LOF is used for the estimated number of vessels/persons in the fishery. NMFS acknowledges that, in some cases, these estimations may be inflations of actual effort, such as for many of the Mid-Atlantic and New England fisheries. However, in these cases, the numbers represent the potential effort for each fishery, given the multiple gear types several state permits may allow for. Changes made to Mid-Atlantic and New England fishery participants will not affect observer coverage or bycatch estimates as observer coverage and bycatch estimates are based on vessel trip reports and landings data. Table 1 and 2 serve to provide a description of the fishery's potential effort (state and Federal). If NMFS is able to extract more accurate information on the gear types used by state permit holders in the future, the numbers will be updated to reflect this change. For additional information on fishing effort in fisheries found on Table 1 or 2, NMFS refers the reader to contact the relevant regional office (contact information included above in SUPPLEMENTARY INFORMATION).

For high seas fisheries, Table 3 lists the number of currently valid HSFCA permits held. Although this likely overestimates the number of active participants in many of these fisheries, the number of valid HSFCA permits is the most reliable data on the potential effort in high seas fisheries at this time. As noted previously in this proposed rule, the number of HSFCA permits listed in Table 3 for the high seas components of fisheries that also operate within U.S. waters does not necessarily represent additional effort that is not accounted for in Tables 1 and 2. Many vessels/persons holding HSFCA permits also fishing within U.S. waters and are included in the number of vessels and participants operating within those fisheries in Tables 1 and 2.

Tables 1, 2, and 3 also list the marine mammal species or stocks incidentally killed or injured (seriously or non-seriously) in each fishery based on observer data, logbook data, stranding reports, disentanglement network data, and MMAP reports. The best available scientific information included in these reports is based on data through 2011. This list includes all species or stocks known to be injured or killed in a given fishery but also includes species or stocks for which there are anecdotal records of a mortality or injury. Additionally, species identified by logbook entries, stranding data, or fishermen self-reports (i.e., MMAP reports) may not be verified. In Tables 1 and 2, NMFS has designated those stocks driving a fishery's classification (i.e., the fishery is classified based on mortalities and serious injuries and of a marine mammal stock that are greater than or equal to 50 percent [Category I], or greater than 1 percent and less than 50 percent [Category II], of a stock's PBR) by a “¹” after the stock's name.

In Tables 1 and 2, there are several fisheries classified as Category II that have no recent documented mortalities and injuries of marine mammals, or fisheries that did not result in a mortality and serious injury rate greater than 1 percent of a stock's PBR level based on known interactions. NMFS has classified these fisheries by analogy to other Category I or II fisheries that use similar fishing techniques or gear that are known to cause mortality or serious injury of marine mammals, as discussed in the final LOF for 1996 (60 FR 67063, December 28, 1995), and according to factors listed in the definition of a “Category II fishery” in 50 CFR 229.2 (i.e., fishing techniques, gear used, methods used to deter marine mammals, target species, seasons and areas fished, qualitative data from logbooks or fisher reports, stranding data, and the species and distribution of marine mammals in the area). NMFS has designated those fisheries listed by analogy in Tables 1 and 2 by a “²” after the fishery's name.

There are several fisheries in Tables 1, 2, and 3 in which a portion of the fishing vessels cross the EEZ boundary and therefore operate both within U.S. waters and on the high seas. These fisheries, though listed separately between Table 1 or 2 and Table 3, are considered the same fishery on either side of the EEZ boundary. NMFS has designated those fisheries in each table by a “*” after the fishery's name.

Table 1—List of Fisheries—Commercial Fisheries in the Pacific Ocean
Fishery description | Estimated number of vessels/persons | Marine mammal species and stocks incidentally killed or injured
CATEGORY I
LONGLINE/SET LINE FISHERIES:
HI deep-set (tuna target) longline/set line. * ‸ | 129 | Bottlenose dolphin, HI Pelagic.
|  | False killer whale, MHI Insular.
|  | False killer whale, HI Pelagic. ¹
|  | False killer whale, Palmyra Atoll.
|  | Pantropical spotted dolphin, HI.
|  | Risso's dolphin, HI.
|  | Short-finned pilot whale, HI.
|  | Sperm whale, HI.
|  | Striped dolphin, HI.
GILLNET FISHERIES:
CA thresher shark/swordfish drift gillnet (≥14 in mesh) * | 19 | Bottlenose dolphin, CA/OR/WA offshore.
|  | California sea lion, U.S.
|  | Humpback whale, CA/OR/WA.
|  | Long-beaked common dolphin, CA.
|  | Minke whale, CA/OR/WA.
|  | Northern elephant seal, CA breeding.
|  | Northern right-whale dolphin, CA/OR/WA.
|  | Pacific white-sided dolphin, CA/OR/WA.
|  | Risso's dolphin, CA/OR/WA.
|  | Short-beaked common dolphin, CA/OR/WA.
|  | Sperm Whale, CA/OR/WA. ¹
CATEGORY II
GILLNET FISHERIES:
CA halibut/white seabass and other species set gillnet (>3.5 in mesh) | 50 | California sea lion, U.S.
|  | Harbor seal, CA.
|  | Humpback whale, CA/OR/WA. ¹
|  | Long-beaked common dolphin, CA.
|  | Northern elephant seal, CA breeding.
|  | Sea otter, CA.
|  | Short-beaked common dolphin, CA/OR/WA.
CA yellowtail, barracuda, and white seabass drift gillnet (mesh size ≥3.5 in and ≤14 in) ² | 30 | California sea lion, U.S.
|  | Long-beaked common dolphin, CA.
|  | Short-beaked common dolphin, CA/OR/WA.
AK Bristol Bay salmon drift gillnet ² | 1,863 | Beluga whale, Bristol Bay.
|  | Gray whale, Eastern North Pacific.
|  | Harbor seal, Bering Sea.
|  | Northern fur seal, Eastern Pacific.
|  | Pacific white-sided dolphin, North Pacific.
|  | Spotted seal, AK.
|  | Steller sea lion, Western U.S.
AK Bristol Bay salmon set gillnet.² | 982 | Beluga whale, Bristol Bay.
|  | Gray whale, Eastern North Pacific.
|  | Harbor seal, Bering Sea.
|  | Northern fur seal, Eastern Pacific.
|  | Spotted seal, AK.
AK Kodiak salmon set gillnet | 188 | Harbor porpoise, GOA. ¹
|  | Harbor seal, GOA.
|  | Sea otter, Southwest AK.
|  | Steller sea lion, Western U.S.
AK Cook Inlet salmon set gillnet | 738 | Beluga whale, Cook Inlet.
|  | Dall's porpoise, AK.
|  | Harbor porpoise, GOA.
|  | Harbor seal, GOA.
|  | Humpback whale, Central North Pacific. ¹
|  | Steller sea lion, Western U.S.
AK Cook Inlet salmon drift gillnet | 569 | Beluga whale, Cook Inlet.
|  | Dall's porpoise, AK.
|  | Harbor porpoise, GOA. ¹
|  | Harbor seal, GOA.
|  | Steller sea lion, Western U.S.
AK Peninsula/Aleutian Islands salmon drift gillnet ² | 162 | Dall's porpoise, AK.
|  | Harbor porpoise, GOA.
|  | Harbor seal, GOA.
|  | Northern fur seal, Eastern Pacific.
AK Peninsula/Aleutian Islands salmon set gillnet ² | 114 | Harbor porpoise, Bering Sea.
|  | Steller sea lion, Western U.S.
AK Prince William Sound salmon drift gillnet | 537 | Dall's porpoise, AK.
|  | Harbor porpoise, GOA. ¹
|  | Harbor seal, GOA.
|  | Northern fur seal, Eastern Pacific.
|  | Pacific white-sided dolphin, North Pacific.
|  | Sea otter, South Central AK.
|  | Steller sea lion, Western U.S. ¹
AK Southeast salmon drift gillnet | 474 | Dall's porpoise, AK.
|  | Harbor porpoise, Southeast AK.
|  | Harbor seal, Southeast AK.
|  | Humpback whale, Central North Pacific. ¹
|  | Pacific white-sided dolphin, North Pacific.
|  | Steller sea lion, Eastern U.S.
AK Yakutat salmon set gillnet ² | 167 | Gray whale, Eastern North Pacific.
|  | Harbor porpoise, Southeastern AK.
|  | Harbor seal, Southeast AK.
|  | Humpback whale, Central North Pacific (Southeast AK).
WA Puget Sound Region salmon drift gillnet (includes all inland waters south of US-Canada border and eastward of the Bonilla-Tatoosh line—Treaty Indian fishing is excluded) | 210 | Dall's porpoise, CA/OR/WA.
|  | Harbor porpoise, inland WA. ¹
|  | Harbor seal, WA inland.
PURSE SEINE FISHERIES:
AK Cook Inlet salmon purse seine | 82 | Humpback whale, Central North Pacific. ¹
AK Kodiak salmon purse seine | 379 | Humpback whale, Central North Pacific. ¹
TRAWL FISHERIES:
AK Bering Sea, Aleutian Islands flatfish trawl | 34 | Bearded seal, AK.
|  | Gray whale, Eastern North Pacific.
|  | Harbor porpoise, Bering Sea.
|  | Harbor seal, Bering Sea.
|  | Humpback whale, Western North Pacific. ¹
|  | Killer whale, AK resident. ¹
|  | Killer whale, GOA, AI, BS transient. ¹
|  | Northern fur seal, Eastern Pacific.
|  | Ringed seal, AK.
|  | Ribbon seal, AK.
|  | Spotted seal, AK.
|  | Steller sea lion, Western U.S. ¹
|  | Walrus, AK.
AK Bering Sea, Aleutian Islands pollock trawl | 95 | Bearded Seal, AK.
|  | Dall's porpoise, AK.
|  | Harbor seal, AK.
|  | Humpback whale, Central North Pacific.
|  | Humpback whale, Western North Pacific.
|  | Northern fur seal, Eastern Pacific.
|  | Ribbon seal, AK.
|  | Ringed seal, AK.
|  | Spotted seal, AK.
|  | Steller sea lion, Western U.S. ¹
AK Bering Sea, Aleutian Islands rockfish trawl | 10 | Killer whale, ENP AK resident. ¹
|  | Killer whale, GOA, AI, BS transient. ¹
POT, RING NET, AND TRAP FISHERIES:
CA spot prawn pot | 28 | Gray whale, Eastern North Pacific.
|  | Humpback whale, CA/OR/WA. ¹
CA Dungeness crab pot | 570 | Gray whale, Eastern North Pacific.
|  | Humpback whale, CA/OR/WA. ¹
OR Dungeness crab pot | 433 | Gray whale, Eastern North Pacific.
|  | Humpback whale, CA/OR/WA. ¹
WA/OR/CA sablefish pot | 309 | Humpback whale, CA/OR/WA. ¹
WA coastal Dungeness crab pot/trap | 228 | Gray whale, Eastern North Pacific.
|  | Humpback whale, CA/OR/WA. ¹
LONGLINE/SET LINE FISHERIES:
HI shallow-set (swordfish target) longline/set line * ‸ | 20 | Blainville's beaked whale, HI.
|  | Bottlenose dolphin, HI Pelagic.
|  | False killer whale, HI Pelagic. ¹
|  | Humpback whale, Central North Pacific.
|  | Kogia sp. whale (Pygmy or dwarf sperm whale), HI.
|  | Risso's dolphin, HI.
|  | Short-finned pilot whale, HI.
|  | Striped dolphin, HI.
American Samoa longline ² | 24 | Bottlenose dolphin, unknown.
|  | Cuvier's beaked whale, unknown.
|  | False killer whale, American Samoa.
|  | Rough-toothed dolphin, American Samoa.
|  | Short-finned pilot whale, unknown.
HI shortline ² | 11 | None documented.
CATEGORY III
GILLNET FISHERIES:
AK Kuskokwim, Yukon, Norton Sound, Kotzebue salmon gillnet | 1702 | Harbor porpoise, Bering Sea.
AK miscellaneous finfish set gillnet | 3 | Steller sea lion, Western U.S.
AK Prince William Sound salmon set gillnet | 30 | Harbor seal, GOA.
|  | Steller sea lion, Western U.S.
AK roe herring and food/bait herring gillnet | 990 | None documented.
CA set gillnet (mesh size <3.5 in) | 304 | None documented.
HI inshore gillnet | 36 | Bottlenose dolphin, HI.
|  | Spinner dolphin, HI.
WA Grays Harbor salmon drift gillnet (excluding treaty Tribal fishing) | 24 | Harbor seal, OR/WA coast.
WA/OR herring, smelt, shad, sturgeon, bottom fish, mullet, perch, rockfish gillnet | 913 | None documented.
WA/OR lower Columbia River (includes tributaries) drift gillnet | 110 | California sea lion, U.S.
|  | Harbor seal, OR/WA coast.
WA Willapa Bay drift gillnet | 82 | Harbor seal, OR/WA coast.
|  | Northern elephant seal, CA breeding.
PURSE SEINE, BEACH SEINE, ROUND HAUL, THROW NET AND TANGLE NET FISHERIES:
AK Southeast salmon purse seine | 415 | None documented in the most recent 5 years of data.
AK Metlakatla salmon purse seine | 10 | None documented.
AK miscellaneous finfish beach seine | 1 | None documented.
AK miscellaneous finfish purse seine | 2 | None documented.
AK octopus/squid purse seine | 0 | None documented.
AK roe herring and food/bait herring beach seine | 6 | None documented.
AK roe herring and food/bait herring purse seine | 367 | None documented.
AK salmon beach seine | 31 | None documented.
AK salmon purse seine (excluding salmon purse seine fisheries listed as Category II) | 935 | Harbor seal, GOA.
CA anchovy, mackerel, sardine purse seine | 65 | California sea lion, U.S.
|  | Harbor seal, CA.
CA squid purse seine | 80 | Long-beaked common dolphin, CA.
|  | Short-beaked common dolphin, CA/OR/WA.
CA tuna purse seine * | 10 | None documented.
WA/OR sardine purse seine | 42 | None documented.
WA (all species) beach seine or drag seine | 235 | None documented.
WA/OR herring, smelt, squid purse seine or lampara | 130 | None documented.
WA salmon purse seine | 440 | None documented.
WA salmon reef net | 53 | None documented.
HI opelu/akule net | 22 | None documented.
HI inshore purse seine | <3 | None documented.
HI throw net, cast net | 29 | None documented.
HI hukilau net | 26 | None documented.
HI lobster tangle net | 0 | None documented.
DIP NET FISHERIES:
CA squid dip net | 115 | None documented.
WA/OR smelt, herring dip net | 119 | None documented.
MARINE AQUACULTURE FISHERIES:
CA marine shellfish aquaculture | unknown | None documented.
CA salmon enhancement rearing pen | >1 | None documented.
CA white seabass enhancement net pens | 13 | California sea lion, U.S.
HI offshore pen culture | 2 | None documented.
OR salmon ranch | 1 | None documented.
WA/OR salmon net pens | 14 | California sea lion, U.S.
|  | Harbor seal, WA inland waters.
TROLL FISHERIES:
AK North Pacific halibut, AK bottom fish, WA/OR/CA albacore, groundfish, bottom fish, CA halibut non-salmonid troll fisheries * | 1,320 (120 AK) | None documented.
AK salmon troll | 2,008 | Steller sea lion, Eastern U.S.
|  | Steller sea lion, Western U.S.
American Samoa tuna troll | 7 | None documented.
CA/OR/WA salmon troll | 4,300 | None documented.
HI trolling, rod and reel | 1,560 | Pantropical spotted dolphin, HI.
Commonwealth of the Northern Mariana Islands tuna troll | 40 | None documented.
Guam tuna troll | 432 | None documented.
LONGLINE/SET LINE FISHERIES:
AK Bering Sea, Aleutian Islands Pacific cod longline | 154 | Dall's porpoise, AK.
|  | Northern fur seal, Eastern Pacific.
AK Bering Sea, Aleutian Islands rockfish longline | 0 | None documented.
AK Bering Sea, Aleutian Islands Greenland turbot longline | 36 | Killer whale, AK resident.
AK Bering Sea, Aleutian Islands sablefish longline | 28 | None documented.
AK Gulf of Alaska halibut longline | 1,302 | None documented.
AK Gulf of Alaska Pacific cod longline | 107 | Steller sea lion, Western U.S.
AK Gulf of Alaska rockfish longline | 0 | None documented.
AK Gulf of Alaska sablefish longline | 291 | Sperm whale, North Pacific.
AK halibut longline/set line (State and Federal waters) | 2,280 | None documented in the most recent 5 years of data.
AK octopus/squid longline | 2 | None documented.
AK State-managed waters longline/setline (including sablefish, rockfish, lingcod, and miscellaneous finfish) | 1,323 | None documented.
WA/OR/CA groundfish, bottomfish longline/set line | 367 | Bottlenose dolphin, CA/OR/WA offshore.
WA/OR North Pacific halibut longline/set line | 350 | None documented.
CA pelagic longline | 1 | None documented in the most recent 5 years of data.
HI kaka line | 17 | None documented.
HI vertical longline | 9 | None documented.
TRAWL FISHERIES:
AK Bering Sea, Aleutian Islands Atka mackerel trawl | 9 | Ribbon seal, AK.
|  | Steller sea lion, Western U.S.
AK Bering Sea, Aleutian Islands Pacific cod trawl | 93 | Steller sea lion, Western U.S.
AK Gulf of Alaska flatfish trawl | 41 | Northern elephant seal, North Pacific.
AK Gulf of Alaska Pacific cod trawl | 62 | Steller sea lion, Western U.S.
AK Gulf of Alaska pollock trawl | 62 | Dall's porpoise, AK.
|  | Fin whale, Northeast Pacific.
|  | Northern elephant seal, North Pacific.
|  | Steller sea lion, Western U.S.
AK Gulf of Alaska rockfish trawl | 34 | None documented.
AK food/bait herring trawl | 4 | None documented.
AK miscellaneous finfish otter/beam trawl | 282 | None documented.
AK shrimp otter trawl and beam trawl (statewide and Cook Inlet) | 33 | None documented.
AK State-managed waters of Cook Inlet, Kachemak Bay, Prince William Sound, Southeast AK groundfish trawl | 2 | None documented.
CA halibut bottom trawl | 53 | None documented.
WA/OR/CA shrimp trawl | 300 | None documented.
WA/OR/CA groundfish trawl | 160-180 | California sea lion, U.S.
|  | Dall's porpoise, CA/OR/WA.
|  | Harbor seal, OR/WA coast.
|  | Northern fur seal, Eastern Pacific.
|  | Pacific white-sided dolphin, CA/OR/WA.
|  | Steller sea lion, Eastern U.S.
POT, RING NET, AND TRAP FISHERIES:
AK statewide miscellaneous finfish pot | 243 | None documented.
AK Aleutian Islands sablefish pot | 8 | None documented.
AK Bering Sea, Aleutian Islands Pacific cod pot | 68 | None documented.
AK Bering Sea, Aleutian Islands crab pot | 296 | Grey whale, Eastern North Pacific.
AK Bering Sea sablefish pot | 6 | None documented.
AK Gulf of Alaska crab pot | 389 | None documented.
AK Gulf of Alaska Pacific cod pot | 154 | Harbor seal, GOA.
AK Southeast Alaska crab pot | 415 | Humpback whale, Central North Pacific (Southeast AK).
AK Southeast Alaska shrimp pot | 274 | Humpback whale, Central North Pacific (Southeast AK).
AK shrimp pot, except Southeast | 210 | None documented.
AK octopus/squid pot | 26 | None documented.
AK snail pot | 1 | None documented.
CA coonstripe shrimp, rock crab, tanner crab pot or trap | 203 | Gray whale, Eastern North Pacific.
|  | Harbor seal, CA.
CA spiny lobster | 198 | Gray whale, Eastern North Pacific.
OR/CA hagfish pot or trap | 54 | None documented.
WA/OR shrimp pot/trap | 254 | None documented.
WA Puget Sound Dungeness crab pot/trap | 249 | None documented.
HI crab trap | 9 | None documented.
HI fish trap | 9 | None documented.
HI lobster trap | <3 | Hawaiian monk seal.
HI shrimp trap | 4 | None documented.
HI crab net | 6 | None documented.
HI Kona crab loop net | 48 | None documented.
HANDLINE AND JIG FISHERIES:
AK miscellaneous finfish handline/hand troll and mechanical jig | 456 | None documented.
AK North Pacific halibut handline/hand troll and mechanical jig | 180 | None documented.
AK octopus/squid handline | 0 | None documented.
American Samoa bottomfish | 12 | None documented.
Commonwealth of the Northern Mariana Islands bottomfish | 28 | None documented.
Guam bottomfish | >300 | None documented.
HI aku boat, pole, and line | 3 | None documented.
HI Main Hawaiian Islands deep-sea bottomfish handline | 567 | Hawaiian monk seal.
HI inshore handline | 378 | None documented.
HI tuna handline | 459 | None documented.
WA groundfish, bottomfish jig | 679 | None documented.
Western Pacific squid jig | <3 | None documented.
HARPOON FISHERIES:
CA swordfish harpoon | 30 | None documented.
POUND NET/WEIR FISHERIES:
AK herring spawn on kelp pound net | 411 | None documented.
AK Southeast herring roe/food/bait pound net | 4 | None documented.
WA herring brush weir | 1 | None documented.
HI bullpen trap | <3 | None documented.
BAIT PENS:
WA/OR/CA bait pens | 13 | California sea lion, U.S.
DREDGE FISHERIES:
Coastwide scallop dredge | 108 (12 AK) | None documented.
DIVE, HAND/MECHANICAL COLLECTION FISHERIES:
AK abalone | 0 | None documented.
AK clam | 156 | None documented.
WA herring spawn on kelp | 4 | None documented.
AK Dungeness crab | 2 | None documented.
AK herring spawn on kelp | 266 | None documented.
AK urchin and other fish/shellfish | 521 | None documented.
CA abalone | 0 | None documented.
CA sea urchin | 583 | None documented.
HI black coral diving | <3 | None documented.
HI fish pond | 16 | None documented.
HI handpick | 57 | None documented.
HI lobster diving | 29 | None documented.
HI spearfishing | 143 | None documented.
WA/CA kelp | 4 | None documented.
WA/OR sea urchin, other clam, octopus, oyster, sea cucumber, scallop, ghost shrimp hand, dive, or mechanical collection | 637 | None documented.
WA shellfish aquaculture | 684 | None documented.
COMMERCIAL PASSENGER FISHING VESSEL (CHARTER BOAT) FISHERIES:
AK/WA/OR/CA commercial passenger fishing vessel | >7,000 (2,702 AK) | Killer whale, unknown.
|  | Steller sea lion, Eastern U.S.
|  | Steller sea lion, Western U.S.
HI charter vessel | 114 | Pantropical spotted dolphin, HI.
LIVE FINFISH/SHELLFISH FISHERIES:
CA nearshore finfish live trap/hook-and-line | 93 | None documented.
List of Abbreviations and Symbols Used in Table 1: AK—Alaska; CA—California; GOA—Gulf of Alaska; HI—Hawaii; OR—Oregon; WA—Washington;
¹ Fishery classified based on mortalities and serious injuries of this stock, which are greater than or equal to 50 percent (Category I) or greater than 1 percent and less than 50 percent (Category II) of the stock's PBR;
² Fishery classified by analogy;
* Fishery has an associated high seas component listed in Table 3;
‸ The list of marine mammal species or stocks killed or injured in this fishery is identical to the list of species or stocks killed or injured in high seas component of the fishery, minus species or stocks have geographic ranges exclusively on the high seas. The species or stocks are found, and the fishery remains the same, on both sides of the EEZ boundary. Therefore, the EEZ components of these fisheries pose the same risk to marine mammals as the components operating on the high seas.

Table 2—List of Fisheries—Commercial Fisheries in the Atlantic Ocean, Gulf of Mexico, and Caribbean
Fishery description | Estimated number of vessels/persons | Marine mammal species and stocks incidentally killed or injured
CATEGORY I
GILLNET FISHERIES:
Mid-Atlantic gillnet | 5,509 | Bottlenose dolphin, Northern Migratory coastal.¹
|  | Bottlenose dolphin, Southern Migratory coastal.¹
|  | Bottlenose dolphin, Northern NC estuarine system.¹
|  | Bottlenose dolphin, Southern NC estuarine system.¹
|  | Bottlenose dolphin, WNA offshore.
|  | Common dolphin, WNA.
|  | Gray seal, WNA.
|  | Harbor porpoise, GME/BF.
|  | Harbor seal, WNA.
|  | Harp seal, WNA.
|  | Humpback whale, Gulf of Maine.
|  | Long-finned pilot whale, WNA.
|  | Minke whale, Canadian east coast.
|  | Risso's dolphin, WNA.
|  | Short-finned pilot whale, WNA.
|  | White-sided dolphin, WNA.
Northeast sink gillnet | 4,375 | Bottlenose dolphin, WNA offshore.
|  | Common dolphin, WNA.
|  | Fin whale, WNA.
|  | Gray seal, WNA.
|  | Harbor porpoise, GME/BF.¹
|  | Harbor seal, WNA,
|  | Harp seal, WNA.
|  | Hooded seal, WNA.
|  | Humpback whale, Gulf of Maine.
|  | Long-finned pilot whale, WNA.
|  | Minke whale, Canadian east coast.
|  | North Atlantic right whale, WNA.
|  | Risso's dolphin, WNA.
|  | Short-finned pilot whale, WNA.
|  | White-sided dolphin, WNA.
TRAP/POT FISHERIES:
Northeast/Mid-Atlantic American lobster trap/pot | 11,693 | Harbor seal, WNA.
|  | Humpback whale, Gulf of Maine.
|  | Minke whale, Canadian east coast.
|  | North Atlantic right whale, WNA.¹
LONGLINE FISHERIES:
Atlantic Ocean, Caribbean, Gulf of Mexico large pelagics longline* | 420 | Atlantic spotted dolphin, GMX continental and oceanic.
|  | Atlantic spotted dolphin, WNA.
|  | Bottlenose dolphin, Northern GMX oceanic.
|  | Bottlenose dolphin, WNA offshore.
|  | Common dolphin, WNA.
|  | Cuvier's beaked whale, WNA.
|  | Killer whale, GMX oceanic.
|  | Long-finned pilot whale, WNA.¹
|  | Mesoplodon beaked whale, WNA.
|  | Northern bottlenose whale, WNA.
|  | Pantropical spotted dolphin, Northern GMX.
|  | Pantropical spotted dolphin, WNA.
|  | Risso's dolphin, Northern GMX.
|  | Risso's dolphin, WNA.
|  | Short-finned pilot whale, Northern GMX.
|  | Short-finned pilot whale, WNA.¹
|  | Sperm whale, GMX oceanic.
CATEGORY II
GILLNET FISHERIES:
Chesapeake Bay inshore gillnet ² | 1,126 | None documented in the most recent 5 years of data.
Gulf of Mexico gillnet ² | 724 | Bottlenose dolphin, GMX bay, sound, and estuarine.
|  | Bottlenose dolphin, Northern GMX coastal.
|  | Bottlenose dolphin, Western GMX coastal.
NC inshore gillnet | 1,323 | Bottlenose dolphin, Northern NC estuarine system.¹
|  | Bottlenose dolphin, Southern NC estuarine system.¹
Northeast anchored float gillnet² | 421 | Harbor seal, WNA.
|  | Humpback whale, Gulf of Maine.
|  | White-sided dolphin, WNA.
Northeast drift gillnet ² | 311 | None documented.
Southeast Atlantic gillnet ² | 357 | Bottlenose dolphin, Southern Migratory coastal.
|  | Bottlenose dolphin, SC/GA coastal.
|  | Bottlenose dolphin, Central FL coastal.
|  | Bottlenose dolphin, Northern FL coastal.
Southeastern U.S. Atlantic shark gillnet | 30 | Bottlenose dolphin, Central FL coastal.¹
|  | Bottlenose dolphin, Northern FL coastal.
|  | North Atlantic right whale, WNA.
TRAWL FISHERIES:
Mid-Atlantic mid-water trawl (including pair trawl) | 322 | Common dolphin, WNA.
|  | Long-finned pilot whale, WNA.
|  | Risso's dolphin, WNA.
|  | Short-finned pilot whale, WNA.
|  | White-sided dolphin, WNA.¹
Mid-Atlantic bottom trawl | 631 | Bottlenose dolphin, WNA offshore.
|  | Common dolphin, WNA.¹
|  | Gray seal, WNA.
|  | Harbor seal, WNA.
|  | Long-finned pilot whale, WNA.¹
|  | Risso's dolphin, WNA.¹
|  | Short-finned pilot whale, WNA.¹
|  | White-sided dolphin, WNA.
Northeast mid-water trawl (including pair trawl) | 1,103 | Gray seal, WNA.
|  | Harbor seal, WNA.
|  | Long-finned pilot whale, WNA.¹
|  | Short-finned pilot whale, WNA.¹
|  | Common dolphin, WNA.
|  | White-sided dolphin, WNA.
Northeast bottom trawl | 2,987 | Bottlenose dolphin, WNA offshore.
|  | Common dolphin, WNA.
|  | Gray seal, WNA.
|  | Harbor porpoise, GME/BF.
|  | Harbor seal, WNA.
|  | Harp seal, WNA.
|  | Long-finned pilot whale, WNA.
|  | Minke whale, Canadian East Coast.
|  | Short-finned pilot whale, WNA.
|  | White-sided dolphin, WNA.¹
Southeastern U.S. Atlantic, Gulf of Mexico shrimp trawl | 4,950 | Atlantic spotted dolphin, GMX continental and oceanic.
|  | Bottlenose dolphin, SC/GA coastal.¹
|  | Bottlenose dolphin, Eastern GMX coastal.¹
|  | Bottlenose dolphin, GMX continental shelf.
|  | Bottlenose dolphin, Northern GMX coastal.
|  | Bottlenose dolphin, Western GMX coastal.¹
|  | Bottlenose dolphin, GMX bay, sound, estuarine.¹
|  | West Indian manatee, FL.
TRAP/POT FISHERIES:
Southeastern U.S. Atlantic, Gulf of Mexico stone crab trap/pot ² | 1,282 | Bottlenose dolphin, Biscayne Bay estuarine.
|  | Bottlenose dolphin, Central FL coastal.
|  | Bottlenose dolphin, Eastern GMX coastal.
|  | Bottlenose dolphin, FL Bay.
|  | Bottlenose dolphin, GMX bay, sound, estuarine (FL west coast portion).
|  | Bottlenose dolphin, Indian River Lagoon estuarine system.
|  | Bottlenose dolphin, Jacksonville estuarine system.
|  | Bottlenose dolphin, Northern GMX coastal.
Atlantic mixed species trap/pot ² | 3,467 | Fin whale, WNA.
|  | Humpback whale, Gulf of Maine.
Atlantic blue crab trap/pot | 8,557 | Bottlenose dolphin, Charleston estuarine system.¹
|  | Bottlenose dolphin, Indian River Lagoon estuarine system.¹
|  | Bottlenose dolphin, Jacksonville estuarine system.¹
|  | Bottlenose dolphin, SC/GA coastal.¹
|  | Bottlenose dolphin, Northern GA/Southern SC estuarine system.¹
|  | Bottlenose dolphin, Southern GA estuarine system.¹
|  | Bottlenose dolphin, Northern Migratory coastal.¹
|  | Bottlenose dolphin, Southern Migratory coastal.¹
|  | Bottlenose dolphin, Central FL coastal.¹
|  | Bottlenose dolphin, Northern FL coastal.¹
|  | Bottlenose dolphin, Northern NC estuarine system.¹
|  | Bottlenose dolphin, Southern NC estuarine system.¹
|  | West Indian manatee, FL.¹
PURSE SEINE FISHERIES:
Gulf of Mexico menhaden purse seine | 40-42 | Bottlenose dolphin, GMX bay, sound, estuarine.
|  | Bottlenose dolphin, Northern GMX coastal.¹
|  | Bottlenose dolphin, Western GMX coastal.¹
Mid-Atlantic menhaden purse seine ² | 5 | Bottlenose dolphin, Northern Migratory coastal.
|  | Bottlenose dolphin, Southern Migratory coastal.
HAUL/BEACH SEINE FISHERIES:
Mid-Atlantic haul/beach seine | 565 | Bottlenose dolphin, Northern NC estuarine system.¹
|  | Bottlenose dolphin, Northern Migratory coastal.¹
|  | Bottlenose dolphin, Southern Migratory coastal.¹
NC long haul seine | 372 | Bottlenose dolphin, Southern NC estuarine system.
|  | Bottlenose dolphin, Northern NC estuarine system.¹
STOP NET FISHERIES:
NC roe mullet stop net | 13 | Bottlenose dolphin, Southern NC estuarine system.¹
POUND NET FISHERIES:
VA pound net | 67 | Bottlenose dolphin, Northern NC estuarine system.
|  | Bottlenose dolphin, Northern Migratory coastal.¹
|  | Bottlenose dolphin, Southern Migratory coastal.¹
CATEGORY III
GILLNET FISHERIES:
Caribbean gillnet | >991 | None documented in the most recent 5 years of data.
DE River inshore gillnet | unknown | None documented in the most recent 5 years of data.
Long Island Sound inshore gillnet | unknown | None documented in the most recent 5 years of data.
RI, southern MA (to Monomoy Island), and NY Bight (Raritan and Lower NY Bays) inshore gillnet | unknown | None documented in the most recent 5 years of data.
Southeast Atlantic inshore gillnet | unknown | None documented.
TRAWL FISHERIES:
Atlantic shellfish bottom trawl | >58 | None documented.
Gulf of Mexico butterfish trawl | 2 | Bottlenose dolphin, Northern GMX oceanic.
|  | Bottlenose dolphin, Northern GMX continental shelf.
Gulf of Mexico mixed species trawl | 20 | None documented.
GA cannonball jellyfish trawl | 1 | Bottlenose dolphin, Southern South Carolina/Georgia.
MARINE AQUACULTURE FISHERIES:
Finfish aquaculture | 48 | Harbor seal, WNA.
Shellfish aquaculture | unknown | None documented.
PURSE SEINE FISHERIES:
Gulf of Maine Atlantic herring purse seine | >7 | Harbor seal, WNA.
|  | Gray seal, WNA.
Gulf of Maine menhaden purse seine | >2 | None documented.
FL West Coast sardine purse seine | 10 | Bottlenose dolphin, Eastern GMX coastal.
U.S. Atlantic tuna purse seine * | 5 | Long-finned pilot whale, WNA.
|  | Short-finned pilot whale, WNA.
LONGLINE/HOOK-AND-LINE FISHERIES:
Northeast/Mid-Atlantic bottom longline/hook-and-line | >1,207 | None documented.
Gulf of Maine, U.S. Mid-Atlantic tuna, shark swordfish hook-and-line/harpoon | 428 | Bottlenose dolphin, WNA offshore.
|  | Humpback whale, Gulf of Maine.
Southeastern U.S. Atlantic, Gulf of Mexico, and Caribbean snapper-grouper and other reef fish bottom longline/hook-and-line | >5,000 | Bottlenose dolphin, GMX continental shelf.
Southeastern U.S. Atlantic, Gulf of Mexico shark bottom longline/hook-and-line | <125 | Bottlenose dolphin, Eastern GMX coastal.
|  | Bottlenose dolphin, Northern GMX continental shelf.
Southeastern U.S. Atlantic, Gulf of Mexico, and Caribbean pelagic hook-and-line/harpoon | 1,446 | None documented.
U.S. Atlantic, Gulf of Mexico trotline | unknown | None documented.
TRAP/POT FISHERIES:
Caribbean mixed species trap/pot | >501 | None documented.
Caribbean spiny lobster trap/pot | >197 | None documented.
FL spiny lobster trap/pot | 1,268 | Bottlenose dolphin, Biscayne Bay estuarine.
|  | Bottlenose dolphin, Central FL coastal.
|  | Bottlenose dolphin, Eastern GMX coastal.
|  | Bottlenose dolphin, FL Bay estuarine.
Gulf of Mexico blue crab trap/pot | 4,113 | Bottlenose dolphin, Western GMX coastal.
|  | Bottlenose dolphin, Northern GMX coastal.
|  | Bottlenose dolphin, Eastern GMX coastal.
|  | Bottlenose dolphin, GMX bay, sound, estuarine.
|  | West Indian manatee, FL.
Gulf of Mexico mixed species trap/pot | unknown | None documented.
Southeastern U.S. Atlantic, Gulf of Mexico golden crab trap/pot | 10 | None documented.
U.S. Mid-Atlantic eel trap/pot | unknown | None documented.
STOP SEINE/WEIR/POUND NET/FLOATING TRAP FISHERIES:
Gulf of Maine herring and Atlantic mackerel stop seine/weir | >1 | Gray seal, WNA.
|  | Harbor porpoise, GME/BF.
|  | Harbor seal, WNA.
|  | Minke whale, Canadian east coast.
|  | Atlantic white-sided dolphin, WNA.
U.S. Mid-Atlantic crab stop seine/weir | 2,600 | None documented.
U.S. Mid-Atlantic mixed species stop seine/weir/pound net (except the NC roe mullet stop net) | unknown | Bottlenose dolphin, Northern NC estuarine system.
RI floating trap | 9 | None documented.
DREDGE FISHERIES:
Gulf of Maine mussel dredge | unknown | None documented.
Gulf of Maine, U.S. Mid-Atlantic sea scallop dredge | >403 | None documented.
U.S. Mid-Atlantic/Gulf of Mexico oyster dredge | 7,000 | None documented.
U.S. Mid-Atlantic offshore surf clam and quahog dredge | unknown | None documented.
HAUL/BEACH SEINE FISHERIES:
Caribbean haul/beach seine | 15 | None documented in the most recent 5 years of data.
Gulf of Mexico haul/beach seine | unknown | None documented.
Southeastern U.S. Atlantic haul/beach seine | 25 | None documented.
DIVE, HAND/MECHANICAL COLLECTION FISHERIES:
Atlantic Ocean, Gulf of Mexico, Caribbean shellfish dive, hand/mechanical collection | 20,000 | None documented.
Gulf of Maine urchin dive, hand/mechanical collection | unknown | None documented.
Gulf of Mexico, Southeast Atlantic, Mid-Atlantic, and Caribbean cast net | unknown | None documented.
COMMERCIAL PASSENGER FISHING VESSEL (CHARTER BOAT) FISHERIES:
Atlantic Ocean, Gulf of Mexico, Caribbean commercial passenger fishing vessel | 4,000 | Bottlenose dolphin, Eastern GMX coastal.
|  | Bottlenose dolphin, Northern GMX coastal.
|  | Bottlenose dolphin, Western GMX coastal.
|  | Bottlenose dolphin, Northern migratory coastal.
|  | Bottlenose dolphin, Southern migratory coastal.
|  | Bottlenose dolphin, Southern SC/GA coastal.
|  | Bottlenose dolphin, Northern FL coastal.
|  | Bottlenose dolphin, Central FL coastal.
|  | Bottlenose dolphin, Northern NC estuarine.
|  | Bottlenose dolphin, Northern GA/Southern SC estuarine.
|  | Bottlenose dolphin, Biscayne Bay estuarine.
|  | Bottlenose dolphin, GMX bay, sound, estuarine.
|  | Bottlenose dolphin, Indian River Lagoon estuarine system.
|  | Bottlenose dolphin, Southern NC estuarine system.
|  | Bottlenose dolphin, Jacksonville estuarine system.
List of Abbreviations and Symbols Used in Table 2: DE—Delaware; FL—Florida; GA—Georgia; GME/BF—Gulf of Maine/Bay of Fundy; GMX—Gulf of Mexico; MA—Massachusetts; NC—North Carolina; SC—South Carolina; VA—Virginia; WNA—Western North Atlantic; ¹ Fishery classified based on mortalities and serious injuries of this stock, which are greater than or equal to 50 percent (Category I) or greater than 1 percent and less than 50 percent (Category II) of the stock's PBR; ² Fishery classified by analogy; * Fishery has an associated high seas component listed in Table 3.

Table 3—List of Fisheries—Commercial Fisheries on the High Seas
Fishery Description | Number of HSFCA permits | Marine mammal species and stocks incidentally killed or injured
Category I
LONGLINE FISHERIES:
Atlantic Highly Migratory Species + | 84 | Atlantic spotted dolphin, WNA.
|  | Bottlenose dolphin, Northern GMX oceanic.
|  | Bottlenose dolphin, WNA offshore.
|  | Common dolphin, WNA.
|  | Cuvier's beaked whale, WNA.
|  | Long-finned pilot whale, WNA.
|  | Mesoplodon beaked whale, WNA.
|  | Risso's dolphin, WNA.
|  | Short-finned pilot whale, WNA.
Western Pacific Pelagic (HI Deep-set component) *‸ + | 124 | Bottlenose dolphin, HI Pelagic.
|  | False killer whale, HI Pelagic.
|  | Pantropical spotted dolphin, HI.
|  | Risso's dolphin, HI.
|  | Short-finned pilot whale, HI.
|  | Sperm whale, HI.
|  | Striped dolphin, HI.
Category II
DRIFT GILLNET FISHERIES:
Atlantic Highly Migratory Species | 1 | Undetermined.
Pacific Highly Migratory Species * ‸ | 4 | Long-beaked common dolphin, CA.
|  | Humpback whale, CA/OR/WA.
|  | Northern right-whale dolphin, CA/OR/WA.
|  | Pacific white-sided dolphin, CA/OR/WA.
|  | Risso's dolphin, CA/OR/WA.
|  | Short-beaked common dolphin, CA/OR/WA.
TRAWL FISHERIES:
Atlantic Highly Migratory Species ** | 1 | Undetermined.
CCAMLR | 0 | Antarctic fur seal.
Western Pacific Pelagic | 0 | Undetermined.
PURSE SEINE FISHERIES:
South Pacific Tuna Fisheries | 40 | Undetermined.
Western Pacific Pelagic | 3 | Undetermined.
LONGLINE FISHERIES:
CCAMLR | 0 | None documented.
South Pacific Albacore Troll | 13 | Undetermined.
South Pacific Tuna Fisheries ** | 8 | Undetermined.
Western Pacific Pelagic (HI Shallow-set component) *‸ + | 28 | Blainville's beaked whale, HI.
|  | Bottlenose dolphin, HI Pelagic.
|  | False killer whale, HI Pelagic.
|  | Humpback whale, Central North Pacific.
|  | Kogia sp. whale (Pygmy or dwarf sperm whale), HI.
|  | Risso's dolphin, HI.
|  | Short-beaked common dolphin, CA/OR/WA.
|  | Short-finned pilot whale, HI.
|  | Striped dolphin, HI.
HANDLINE/POLE AND LINE FISHERIES:
Atlantic Highly Migratory Species | 3 | Undetermined.
Pacific Highly Migratory Species | 46 | Undetermined.
South Pacific Albacore Troll | 9 | Undetermined.
Western Pacific Pelagic | 5 | Undetermined.
TROLL FISHERIES:
Atlantic Highly Migratory Species | 4 | Undetermined.
South Pacific Albacore Troll | 33 | Undetermined.
South Pacific Tuna Fisheries ** | 2 | Undetermined.
Western Pacific Pelagic | 19 | Undetermined.
LINERS NEI FISHERIES:
Pacific Highly Migratory Species ** | 3 | Undetermined.
South Pacific Albacore Troll | 1 | Undetermined.
Western Pacific Pelagic | 1 | Undetermined.
Category III
LONGLINE FISHERIES:
Pacific Highly Migratory Species * | 101 | None documented in the most recent 5 years of data.
PURSE SEINE FISHERIES
Pacific Highly Migratory Species * ‸ | 8 | None documented.
TROLL FISHERIES:
Pacific Highly Migratory Species * | 262 | None documented.
List of Terms, Abbreviations, and Symbols Used in Table 3: GMX-Gulf of Mexico; NEI—Not Elsewhere Identified; WNA—Western North Atlantic.
* Fishery is an extension/component of an existing fishery operating within U.S. waters listed in Table 1 or 2. The number of permits listed in Table 3 represents only the number of permits for the high seas component of the fishery.
** These gear types are not authorized under the Pacific HMS FMP (2004), the Atlantic HMS FMP (2006), or without a South Pacific Tuna Treaty license (in the case of the South Pacific Tuna fisheries). Because HSFCA permits are valid for five years, permits obtained in past years exist in the HSFCA permit database for gear types that are now unauthorized. Therefore, while HSFCA permits exist for these gear types, it does not represent effort. In order to land fish species, fishers must be using an authorized gear type. Once these permits for unauthorized gear types expire, the permit-holder will be required to obtain a permit for an authorized gear type.
+ The marine mammal species or stocks listed as killed or injured in this fishery has been observed taken by this fishery on the high seas.
‸ The list of marine mammal species or stocks killed or injured in this fishery is identical to the list of marine mammal species or stocks killed or injured in U.S. waters component of the fishery, minus species or stocks that have geographic ranges exclusively in coastal waters, because the marine mammal species or stocks are also found on the high seas and the fishery remains the same on both sides of the EEZ boundary. Therefore, the high seas components of these fisheries pose the same risk to marine mammals as the components of these fisheries operating in U.S. waters.

Table 4—Fisheries Affected by Take Reduction Teams and Plans
Take reduction plans | Affected fisheries
Atlantic Large Whale Take Reduction Plan (ALWTRP)—50 CFR 229.32 | Category I
| Mid-Atlantic gillnet.
| Northeast/Mid-Atlantic American lobster trap/pot.
| Northeast sink gillnet.
| Category II
| Atlantic blue crab trap/pot.
| Atlantic mixed species trap/pot.
| Northeast anchored float gillnet.
| Northeast drift gillnet.
| Southeast Atlantic gillnet.
| Southeastern U.S. Atlantic shark gillnet.*
| Southeastern, U.S. Atlantic, Gulf of Mexico stone crab trap/pot.‸
Bottlenose Dolphin Take Reduction Plan (BDTRP)—50 CFR 229.35 | Category I
| Mid-Atlantic gillnet.
| Category II
| Atlantic blue crab trap/pot.
| Chesapeake Bay inshore gillnet fishery.
| Mid-Atlantic haul/beach seine.
| Mid-Atlantic menhaden purse seine.
| NC inshore gillnet.
| NC long haul seine.
| NC roe mullet stop net.
| Southeast Atlantic gillnet.
| Southeastern U.S. Atlantic shark gillnet.
| Southeastern U.S. Atlantic, Gulf of Mexico shrimp trawl.‸
| Southeastern, U.S. Atlantic, Gulf of Mexico stone crab trap/pot.‸
| VA pound net.
False Killer Whale Take Reduction Plan (FKWTRP)—50 CFR 229.37 | Category I
| HI deep-set (tuna target) longline/set line.
| Category II
| HI shallow-set (swordfish target) longline/set line.
Harbor Porpoise Take Reduction Plan (HPTRP)—50 CFR 229.33 (New England) and 229.34 (Mid-Atlantic) | Category I
| Mid-Atlantic gillnet.
| Northeast sink gillnet.
Pelagic Longline Take Reduction Plan (PLTRP)—50 CFR 229.36 | Category I
| Atlantic Ocean, Caribbean, Gulf of Mexico large pelagics longline.
Pacific Offshore Cetacean Take Reduction Plan (POCTRP)—50 CFR 229.31 | Category I
| CA thresher shark/swordfish drift gillnet (≥14 in mesh).

Take reduction teams | Affected fisheries
Atlantic Trawl Gear Take Reduction Team (ATGTRT) | Category II
| Mid-Atlantic bottom trawl
| Mid-Atlantic mid-water trawl (including pair trawl)
| Northeast bottom trawl
| Northeast mid-water trawl (including pair trawl)
* Only applicable to the portion of the fishery operating in U.S. waters; ‸ Only applicable to the portion of the fishery operating in the Atlantic Ocean.

Classification

The Chief Counsel for Regulation of the Department of Commerce certified to the Chief Counsel for Advocacy of the Small Business Administration (SBA) that this rule would not have a significant economic impact on a substantial number of small entities. The SBA has established size criteria for all major industry sectors in the US, including fish harvesting and fish processing businesses (78 FR 37397). The factual basis leading to the certification is set forth below.

Under existing regulations, all individuals participating in Category I or II fisheries must register under the MMPA and obtain an Authorization Certificate. The Authorization Certificate authorizes the taking of non-endangered and non-threatened marine mammals incidental to commercial fishing operations. Additionally, individuals may be subject to a TRP and requested to carry an observer. NMFS has estimated that up to approximately 58,500 fishing vessels, most have annual revenues below the SBA's small entity thresholds, may operate in Category I or II fisheries. As Category I or II fisheries they are required to register with NMFS. No fishing vessels are new to a Category I or II fishery as a result of this proposed rule. The MMPA registration process is integrated with existing state and Federal licensing, permitting, and registration programs. Therefore, individuals who have a state or Federal fishing permit or landing license, or who are authorized through another related state or Federal fishery registration program, are currently not required to register separately under the MMPA or pay the $25 registration fee. Therefore, this proposed rule would not impose any direct costs on small entities.

If a vessel is requested to carry an observer, individuals will not incur any direct economic costs associated with carrying that observer. Potential indirect costs to individuals required to take observers may include: lost space on deck for catch, lost bunk space, and lost fishing time due to time needed by the observer to process bycatch data. For effective monitoring, however, observers will rotate among a limited number of vessels in a fishery at any given time and each vessel within an observed fishery has an equal probability of being requested to accommodate an observer. Therefore, the potential indirect costs to individuals are expected to be minimal, because observer coverage would only be required for a small percentage of an individual's total annual fishing time. In addition, section 118 of the MMPA states that an observer is not required to be placed on a vessel if the facilities for quartering an observer or performing observer functions are inadequate or unsafe, thereby exempting vessels too small to accommodate an observer from this requirement. As a result of this certification, an initial regulatory flexibility analysis is not required and was not prepared. In the event that reclassification of a fishery to Category I or II results in a TRP, economic analyses of the effects of that TRP would be summarized in subsequent rulemaking actions.

This proposed rule contains collection-of-information requirements subject to the Paperwork Reduction Act. The collection of information for the registration of individuals under the MMPA has been approved by the Office of Management and Budget (OMB) under OMB control number 0648-0293 (0.15 hours per report for new registrants and 0.09 hours per report for renewals). The requirement for reporting marine mammal mortalities or injuries has been approved by OMB under OMB control number 0648-0292 (0.15 hours per report). These estimates include the time for reviewing instructions, searching existing data sources, gathering and maintaining the data needed, and completing and reviewing the collection of information. Send comments regarding these reporting burden estimates or any other aspect of the collections of information, including suggestions for reducing burden, to NMFS and OMB (see ADDRESSES and SUPPLEMENTARY INFORMATION).

Notwithstanding any other provision of law, no person is required to respond to nor shall a person be subject to a penalty for failure to comply with a collection of information subject to the requirements of the Paperwork Reduction Act unless that collection of information displays a currently valid OMB control number.

This proposed rule has been determined to be not significant for the purposes of Executive Order 12866.

An environmental assessment (EA) was prepared under the National Environmental Policy Act (NEPA) for regulations to implement section 118 of the MMPA in June 1995. NMFS revised that EA relative to classifying U.S. commercial fisheries on the LOF in December 2005. Both the 1995 EA and the 2005 EA concluded that implementation of MMPA section 118 regulations would not have a significant impact on the human environment. This proposed rule would not make any significant change in the management of reclassified fisheries; therefore, this proposed rule is not expected to change the analysis or conclusion of the 2005 EA. The Council of Environmental Quality (CEQ) recommends agencies review EAs every five years. NMFS reviewed the 2005 EA in 2009 and concluded that no update was needed at that time. NMFS is currently undertaking the next five year review and is updating the 2005 EA. If NMFS takes a management action, for example, through the development of a TRP, NMFS would first prepare an environmental document, as required under NEPA, specific to that action.

This proposed rule would not affect species listed as threatened or endangered under the Endangered Species Act (ESA) or their associated critical habitat. The impacts of numerous fisheries have been analyzed in various biological opinions, and this proposed rule will not affect the conclusions of those opinions. The classification of fisheries on the LOF is not considered to be a management action that would adversely affect threatened or endangered species. If NMFS takes a management action, for example, through the development of a TRP, NMFS would consult under ESA section 7 on that action.

This proposed rule would have no adverse impacts on marine mammals and may have a positive impact on marine mammals by improving knowledge of marine mammals and the fisheries interacting with marine mammals through information collected from observer programs, stranding and sighting data, or take reduction teams.

This proposed rule would not affect the land or water uses or natural resources of the coastal zone, as specified under section 307 of the Coastal Zone Management Act.

References

Bradford, A.L. and K.A. Forney. 2013. Injury determinations for cetaceans observed interacting with Hawaii and American Samoa longline fisheries during 2007-2011. PIFSC Working Paper WP-13-002. Pacific Islands Fisheries Science Center, National Marine Fisheries Service. 24 p.

Carretta, J.V. and L. Enriquez. 2012. Marine mammal and seabird bycatch in California gillnet fisheries in 2010. NOAA SWFSC and SWR Administrative Report LJ-12-01. 15 p.

Carretta, J.V., E. Oleson, D.W. Weller, A.R. Lang, K.A. Forney, J. Baker, B. Hanson, K Martien, M.M. Muto, M.S. Lowry, J. Barlow, D. Lynch, L. Carswell, R.L. Brownell Jr., D.K. Mattila, and M.C. Hill. 2013a. U.S. Pacific Marine Mammal Stock Assessments: 2012. NOAA Technical Memorandum NOAA-TM-NMFS-SWFSC-504. 378 p.

Carretta, J.V., E. Oleson, D.W. Weller, A.R. Lang, K.A. Forney, J. Baker, B. Hanson, K Martien, M.M. Muto, M.S. Lowry, J. Barlow, D. Lynch, L. Carswell, R.L. Brownell Jr., D.K. Mattila, and M.C. Hill. 2013b. U.S. Pacific Marine Mammal Stock Assessments: 2013 (Draft). NOAA Technical Memorandum NOAA-TM-NMFS-SWFSC-xxx. 306 p.

McCracken, M.L. 2010. Adjustments to false killer whale and short-finned pilot whale bycatch estimates. PIFSC Working Paper WP-10-007. Pacific Islands Fisheries Science Center, National Marine Fisheries Service. 23 p.

NMFS. 2012. NOAA Fisheries Policy Directive 02-038-01 Process for Injury Determinations (01/27/12). Available at: http://www.nmfs.noaa.gov/pr/pdfs/serious_injury_policy.pdf.

Dated: December 2, 2013.
Alan D. Risenhoover,
Director, Office of Sustainable Fisheries, performing the functions and duties of the Deputy Assistant Administrator for Regulatory Programs, National Marine Fisheries Service.

[FR Doc. 2013-29208 Filed 12-5-13; 8:45 am]

BILLING CODE 3510-22-P